DEPARTMENT OF TRANSPORTATION

Federal Aviation Administration

14 CFR Part 39

[Docket No. FAA-2005-20405; Directorate Identifier 2002-NM-243-AD; Amendment 39-14269; AD 2005-19-04]

RIN 2120-AA64

Airworthiness Directives; Airbus Model A340-200 and -300 Series Airplanes

AGENCY: Federal Aviation Administration (FAA), Department of Transportation (DOT).

ACTION: Final rule; request for comments.

SUMMARY: The FAA is adopting a new airworthiness directive (AD) for certain Airbus Model A340-200 and -300 series airplanes. This AD requires revising the airplane flight manual to incorporate new procedures for the flightcrew to follow to correct miscalculation of the takeoff and accelerating or stopping distance of the airplane during a ferry flight under certain conditions. This AD results from a report that a software error could result in a miscalculation (underestimation) of the runway length necessary for takeoff in the case of a ferry flight with one engine not operating. We are issuing this AD to prevent this miscalculation, which, if combined with high takeoff weight, too-short runway length, and high altitude and temperature of the airport, could result in inability of the flightcrew to abort the takeoff in a safe manner, reduced controllability of the airplane, and runway overrun.

DATES: Effective September 29, 2005.

The Director of the Federal Register approved the incorporation by reference of a certain publication listed in the AD as of September 29, 2005.

We must receive comments on this AD by November 14, 2005.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Discussion

The Direction Générale de l'Aviation Civile (DGAC), which is the airworthiness authority for France, notified us that an unsafe condition may exist on certain Airbus Model A340-200 and -300 series airplanes. The DGAC advises that, during certification of Airbus Model A340-600 series airplanes, an error in the Octopus software was discovered. The software error results in a miscalculation (underestimation) of the runway length necessary for takeoff in the case of a ferry flight with one engine not operating. In this situation, the takeoff procedure requires a progressive power setting of the engine symmetrical to the failed or non-operational engine. Investigation revealed that the calculations performed by the software give the same thrusts in the transient system for the three operational engines, resulting in an error in calculation of 650 meters (2,133 feet) for the takeoff and accelerate/stop distance. This condition, if combined with high takeoff weight, too-short runway length, and high altitude and temperature of the airport, could result in inability of the flightcrew to abort the takeoff in a safe manner, reduced controllability of the airplane, and runway overrun.

Relevant Service Information

Airbus has issued Temporary Revision (TR) 6.03.02/05, dated August 8, 2002, to the A340 Airplane Flight Manual (AFM). The TR describes procedures for revising the limitations section (appendices and supplements) of the AFM to provide procedures for the flightcrew to follow to correct miscalculation of the takeoff and accelerating or stopping distance of the airplane during a ferry flight with one engine not operating. The DGAC mandated the TR and issued French airworthiness directive 2002-436(B), dated August 21, 2002, to ensure the continued airworthiness of these airplanes in France.

FAA's Determination and Requirements of This AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are issuing this AD to prevent miscalculation of the takeoff and accelerating or stopping distance of the airplane during ferry flight takeoff performance. This miscalculation, if combined with high takeoff weight, too-short runway length, and high altitude and temperature of the airport, could result in inability of the flightcrew to abort the takeoff in a safe manner, reduced controllability of the airplane, and runway overrun. This AD requires revising the AFM to incorporate new procedures for the flightcrew to follow to correct miscalculation of the takeoff and accelerating or stopping distance of the airplane during a ferry flight under certain conditions.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

If an affected airplane is imported and placed on the U.S. Register in the future, the required AFM revision would take about 1 work hour per airplane, at an average labor rate of $65 per work hour. Based on these figures, the estimated cost of the AD would be $65 per airplane.

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements that affect flight safety and was not preceded by notice and an opportunity for public comment; however, we invite you to submit any relevant written data, views, or arguments regarding this AD. Send your comments to the address listed under the ADDRESSES section. Include “Docket No. FAA-2005-20405; Directorate Identifier 2002-NM-243-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-19-04 Airbus: Amendment 39-14269. Docket No. FAA-2005-20405; Directorate Identifier 2002-NM-243-AD.

Effective Date

(a) This AD becomes effective September 29, 2005.

Affected ADs

(b) None.

Applicability: (c) This AD applies to Airbus Model A340-211, -212, and -213, and Model A340-311, -312, and -313 airplanes, certificated in any category; modified by Airbus modification 40647.

Unsafe Condition

(d) This AD results from a report that a software error could result in a miscalculation (underestimation) of the runway length necessary for takeoff in the case of a ferry flight with one engine not operating. The FAA is issuing this AD to prevent this miscalculation, which, if combined with high takeoff weight, too-short runway length, and high altitude and temperature of the airport, could result in inability of the flightcrew to abort the takeoff in a safe manner, reduced controllability of the airplane, and runway overrun.

Compliance: (e) You are responsible for having the actions required by this AD performed within the compliance times specified, unless the actions have already been done.

Airplane Flight Manual (AFM) Revision

(f) Within 10 days after the effective date of this AD: Revise the Limitations section of the Airbus A340 AFM to include the information in Airbus Temporary Revision (TR) 6.03.02/05, dated August 8, 2002, as specified in the TR. The TR includes procedures for the flightcrew to follow to correct miscalculation of the takeoff and accelerating or stopping distance of the airplane during a ferry flight with one engine not operating.

Note 1: This may be done by inserting a copy of Airbus TR 6.03.02/05 in the AFM. When the TR has been included in the general revisions of the AFM, the general revisions may be inserted in the AFM provided the relevant information in the general revision is identical to that in Airbus TR 6.03.02/05.

Alternative Methods of Compliance (AMOCs)

(g) The Manager, International Branch, ANM-116, Transport Airplane Directorate, FAA, has the authority to approve AMOCs for this AD, if requested in accordance with the procedures found in 14 CFR 39.19.

Related Information

(h) French airworthiness directive 2002-436(B), dated August 21, 2002, also addresses the subject of this AD.

Material Incorporated by Reference

(i) You must use Airbus Temporary Revision 6.03.02/05, dated August 8, 2002, to the Airbus A340 Airplane Flight Manual, to perform the actions that are required by this AD, unless the AD specifies otherwise. The Director of the Federal Register approved the incorporation by reference of this document in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., room PL-401, Nassif Building, Washington, DC; on the Internet at http://dms.dot.gov; or at the National Archives and Records Administration (NARA). For information on the availability of this material at the NARA, call (202) 741-6030, or go to http://www.archives.gov/federal-register/cfr/ibr-locations.html.

Issued in Renton, Washington, on September 6, 2005.
Kalene C. Yanamura,
Acting Manager, Transport Airplane Directorate, Aircraft Certification Service.

[FR Doc. 05-18060 Filed 9-13-05; 8:45 am]

BILLING CODE 4910-13-P